FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 6, 2017.

A. Federal Reserve Bank of St. Louis (David L. Hubbard, Senior Manager) P.O. Box 442, St. Louis, Missouri 63166-2034. Comments can also be sent electronically to Comments.applications@stls.frb.org:

1. Peter W. Simon and Christopher W. Simon, both of Hardin, Illinois; collectively as a group acting in concert to acquire voting shares of BCC Bancshares, Inc., Hardin, Illinois, and thereby acquire shares of Bank of Calhoun County, Hardin, Illinois.

B. Federal Reserve Bank of Minneapolis (Jacquelyn K. Brunmeier, Assistant Vice President) 90 Hennepin Avenue, Minneapolis, Minnesota 55480-0291:

1. Franklin G. Larson Revocable Trust, Franklin G. Larson trustee, Valley City, North Dakota; Mary JoAndrea Larson Revocable Trust, Mary JoAndrea Larson trustee, Valley City, North Dakota; Mary JoAndrea Larson Irrevocable Spousal Trust, Franklin G. Larson, trustee, Valley City, North Dakota; Scott M. Larson, Stillwater, Oklahoma; Wyatt Larson Irrevocable Trust, Scott Larson trustee, Stillwater, Oklahoma; Michael J. Larson, Fargo, North Dakota; Heidi J. Barranger, Zephyr Cove, Nevada; Nicholas Barranger, Fountain Hills, Arizona; Michelle Larson, Bismarck, North Dakota; Paige Larson 2015 Irrevocable Trust 1, First Lawyers Trust Company Joel Black trustee, Rapid City, South Dakota; and Annika Larson 2015 Irrevocable Trust 1, First Lawyers Trust Company Joel Black trustee, Rapid City, South Dakota; to retain shares and thereby join the Larson Family Group, that controls through the Larson Family Stock Transfer Agreement, voting shares of Starion Bancorporation, Bismarck, North Dakota, and thereby indirectly control Starion Bank, Bismarck, North Dakota.

C. Federal Reserve Bank of Dallas (Robert L. Triplett III, Senior Vice President) 2200 North Pearl Street, Dallas, Texas 75201-2272:

1. Henry W. Bethard V and Benjamin T. Bethard, to retain voting shares of Coushatta Bancshares, Inc., Coushatta, Louisiana, and thereby retain shares of Bank of Coushatta, Coushatta, Louisiana, and to join the Bethard family group, a group acting in concert.

Board of Governors of the Federal Reserve System, February 16, 2017.
Yao-Chin Chao,
Assistant Secretary of the Board.

[FR Doc. 2017-03449 Filed 2-21-17; 8:45 am]

BILLING CODE 6210-01-P